Proclamation 8803 of April 20, 2012

Establishment of the Fort Ord National Monument

By the President of the United States of America

A Proclamation

In the heart of California’s Central Coast, the former Fort Ord encompasses a sweeping landscape of vivid beauty and rich natural diversity. One of the few remaining expanses of large, contiguous open space in the increasingly developed Monterey Bay area, this area is a rolling landscape long treasured for recreation, scientific research, outdoor education, and historical significance. Originating in the Pleistocene Epoch, ancient dunes provide the foundation for this landscape’s unique array of plant and wildlife communities. The area is also notable for its historical significance, including its role in the Spanish settlement of California and in the military training of generations of American soldiers.

Nearly two and a half centuries ago, as Americans fought for independence far to the east, these lands were traversed by a group of settlers led by Spanish Lieutenant Colonel Juan Bautista de Anza. In 1775-1776, Anza established the first overland route from “New Spain,” as Mexico was then known, to San Francisco, opening the way for expanded Spanish settlement of California. The diaries kept on this nearly 2,000-mile journey were used to identify the Juan Bautista de Anza National Historic Trail, approximately 6 miles of which pass through the Fort Ord area. Although much of the historic route currently passes through urban areas, the undeveloped expanse of the Fort Ord area is likely quite similar to the open landscape experienced by Anza and by the Costanoan (now commonly referred to as Ohlone) peoples who lived in what is now the Central Coast region of California.

The area’s open, contiguous landscape owes its undeveloped state in large part to its role as a U.S. Army facility. From World War I through the early 1990s, the area’s rugged terrain served as a military training ground and introduced as many as a million and a half American soldiers to the rigors of military service. From its origins in 1917 as a training ground for troops stationed at the nearby Presidio of Monterey, Fort Ord had grown into a major Army installation by the beginning of World War II. During the Vietnam War, it served as a leading training center and deployment staging ground. While the former Fort Ord has few remaining historic structures, today thousands of veterans carry the memory of its dramatic landscape as their first taste of Army life, as a final stop before deploying to war, or as a home base during their military career. These lands are an historical link to the heroism and dedication of the men and women who served our Nation and fought in the major conflicts of the 20th century.

Today, this expansive, historic landscape provides opportunities for solitude and adventure to nearly 100,000 visitors each year. By bicycle, horse, and foot visitors can explore the Fort Ord area’s scenic and natural resources along trails that wind over lush grasslands, between gnarled oaks, and through scrub-lined canyons. Within the boundaries of the Fort Ord area, visitors admire the landscape and scenery and are exposed to wildlife and a diverse group of rare and endemic plants and animals. Because visitors travel from areas near and far, these lands support a growing travel and tourism sector that is a source of economic opportunity for the community, especially businesses in the region. They also help to attract new residents, retirees, and businesses that will further diversify the local economy.

Scientists are also drawn here, seeking out opportunities to better understand once-widespread species and vegetative communities, and their ongoing restoration. The Fort Ord area is significant because of its rich biodiversity and important Central Coast habitats, supporting a diverse group of rare and endemic species of plants and animals that are managed across the base through a multi-agency, community-led management plan. It is one of the few remaining places in the world where large expanses of coastal scrub and live oak woodland and savanna habitat, mixed with rare vernal pools, exist in a contiguous, interconnected landscape.

The protection of the Fort Ord area will maintain its historical and cultural significance, attract tourists and recreationalists from near and far, and enhance its unique natural resources, for the enjoyment of all Americans.

WHEREAS section 2 of the Act of June 8, 1906 (34 Stat. 225, 16 U.S.C. 431) (the “Antiquities Act”), authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected;

WHEREAS the 1991 Defense Base Closure and Realignment Commission recommended that Fort Ord cease to be used as an Army installation, and pursuant to the Defense Base Closure and Realignment Act of 1990 (Public Law 101-510), Fort Ord closed on September 30, 1994;

WHEREAS it is in the public interest to reserve such lands as a national monument to be known as the Fort Ord National Monument;

NOW, THEREFORE, I, BARACK OBAMA, President of the United States of America, by the authority vested in me by section 2 of the Antiquities Act, hereby proclaim that all lands and interests in lands owned or controlled by the Government of the United States within the boundaries described on the map entitled “Fort Ord National Monument,” which is attached to and forms a part of this proclamation, are hereby set apart and reserved as the Fort Ord National Monument (monument) for the purpose of protecting and restoring the objects identified above. The reserved Federal lands and interests in lands consist of approximately 14,651 acres, which is the smallest area compatible with the proper care and management of the objects to be protected and restored.

All Federal lands and interests in lands within the boundaries of this monument are hereby appropriated and withdrawn from all forms of entry, location, selection, sale, leasing, or other disposition under the public lands laws, including withdrawal from location, entry, and patent under the mining laws, and from disposition under all laws relating to mineral and geothermal leasing other than by exchange that furthers the protective purposes of the monument.

The establishment of this monument is subject to valid existing rights. Lands and interests in lands within the monument boundaries not owned or controlled by the United States shall be reserved as part of the monument upon acquisition of ownership or control by the United States.

Of the approximately 14,651 acres of Federal lands and interests in lands reserved by this proclamation, approximately 7,205 acres are currently managed by the Secretary of the Interior through the Bureau of Land Management (BLM) and approximately 7,446 acres are currently managed by the Secretary of the Army. The Secretary of the Army, in consultation with the Secretary of the Interior, through the BLM, shall continue to manage the lands and interests in lands under the Secretary’s jurisdiction within the monument boundaries until the Army transfers those lands and interests in lands to the BLM in accordance with the 1995 Memorandum of Understanding (MOU) between the Department of the Army and the BLM, as amended, that describes the responsibilities of each agency related to such lands and interests in lands, the implementing actions required of each agency, the process for transferring administrative jurisdiction over such lands and interests in lands to the Secretary of the Interior, and the processes for resolving interagency disputes. The Secretary of the Interior, through the BLM, shall manage that portion of the monument under the Secretary’s administrative jurisdiction, pursuant to applicable legal authorities and the MOU, to implement the purposes of this proclamation.

For purposes of protecting and restoring the objects identified above, the Secretary of the Interior, through the BLM, shall prepare and maintain a transportation plan, in coordination with the Secretary of the Army and consistent with the MOU, that provides for visitor enjoyment and understanding of the scientific and historic objects on lands within the monument boundaries that are under the administrative jurisdiction of the Secretary of the Interior. The transportation plan shall include the designation of roads and trails for bicycling and other purposes. Except for emergency or authorized administrative purposes, under the transportation plan motorized vehicle use shall be permitted only on designated roads, and non-motorized mechanized vehicle use shall be permitted only on designated roads and trails. The plan shall be revised upon the transfer of lands now under the administrative jurisdiction of the Secretary of the Army to the Secretary of the Interior in accordance with the MOU.

Nothing in this proclamation shall be deemed to enlarge or diminish the rights of any Indian tribe.

Nothing in this proclamation shall affect the responsibility of the Department of the Army under applicable environmental laws, including the remediation of hazardous substances or munitions and explosives of concern within the monument boundaries; nor affect the Department of the Army’s statutory authority to control public access or statutory responsibility to make other measures for environmental remediation, monitoring, security, safety, or emergency preparedness purposes; nor affect any Department of the Army activities on lands not included within the monument. Nothing in this proclamation shall affect the implementation of the Installation-Wide Multispecies Habitat Management Plan for the former Fort Ord including interagency agreements implementing that plan.

Nothing in this proclamation shall be deemed to enlarge or diminish the jurisdiction of the State of California with respect to fish and wildlife management.

Nothing in this proclamation shall be deemed to revoke any existing withdrawal, reservation, or appropriation; however, the monument shall be the dominant reservation.

Warning is hereby given to all unauthorized persons not to appropriate, injure, destroy, or remove any feature of this monument and not to locate or settle upon any of the lands thereof.

IN WITNESS WHEREOF, I have hereunto set my hand this twentieth day of April, in the year of our Lord two thousand twelve, and of the Independence of the United States of America the two hundred and thirty-sixth.

Billing code 3295-F2-P

[FR Doc. 2012-10114

Filed 4-24-12; 8:45 am]

Billing code 4310-10-C